DEPARTMENT OF THE TREASURY

Senior Executive Service Departmental Offices Performance Review Board.

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

Baukol, Andy P., Deputy Assistant Secretary for Mid-East and Africa

Cavella, Charles J., Deputy Assistant Secretary for Security

Coloretti, Nani Ann, Deputy Assistant Secretary for Management and Budget

Corwin, Manal S., Deputy Assistant Secretary for International Tax Affairs

Dohner, Robert S., Deputy Assistant Secretary for South and East Asia

East, Robyn C., Deputy Assistant Secretary and Chief Information Officer

Fitzpayne, Alistair M., Deputy Chief of Staff and Executive Secretary

Gerardi, Geraldine, Director for Business and International Taxation

Grippo, Gary E., Deputy Assistant Secretary for Government Financial Policy

Hammerle, Barbara C., Deputy Director, Office of Foreign Assets Control

Hampl, Eric E., Director, Executive Office of Asset Forfeiture

Harvey, Mariam G., Associate Chief Human Capital Officer for Civil Rights and Diversity

Isaacs, Michele, Chief Learning Officer

Jaskowiak, Mark M., Deputy Assistant Secretary for Investment Security

Johnson, Nicole, Associate Chief Human Capital Officer for

Human Capital Strategic Management

Madon, Michael P., Deputy Assistant Secretary for Intelligence Community Integration

Mazur, Mark J., Deputy Assistant Secretary for Tax Analysis

McDonald, William L., Deputy Assistant Secretary for Technical Assistance Policy

Ostrowski, Nancy, Director, Office of DC Pensions

Pabotoy, Barbara, Associate Chief Human Capital Officer for Human Capital Services

Patterson, Mark A., Chief of Staff

Reger, Mark Anthony, Deputy Assistant Secretary for Accounting Policy

Roth, Dorrice, Director, Office of Financial Management/Acting Deputy Chief Financial Officer

Rutherford, Matthew S., Deputy Assistant Secretary for Federal Finance

Sharpe, Thomas A., Director, Office of Procurement

Sobel, Mark D., Deputy Assistant Secretary for International Monetary and Financial Policy

Szubin, Adam J., Director, Office of Foreign Assets Control

DATES: Effective Date: Membership is effective on the date of this notice.

FOR FURTHER INFORMATION CONTACT: Mario R. Minor, Human Resources Specialist, 1500 Pennsylvania Avenue NW., ATTN: 1801 L Street, NW.—6th Floor, Washington, DC 20220, Telephone: (202) 622-0774.

This notice does not meet the Department's criteria for significant regulations.

Dated: October 20, 2011.
Barbara B. Pabotoy,
Associate Chief Human Capital Officer, Human Capital Services.

[FR Doc. 2011-28967 Filed 11-8-11; 8:45 am]

BILLING CODE 4811-42-P